DEPARTMENT OF THE INTERIOR

National Park Service

[2253-665]

Notice of Intent To Repatriate Cultural Items: Peabody Museum of Archaeology and Ethnology, Harvard University, Cambridge, MA; Correction

AGENCY: National Park Service, Interior.

ACTION: Notice; correction.

Notice is here given in accordance with the Native American Graves Protection and Repatriation Act (NAGPRA), 25 U.S.C. 3005, of the intent to repatriate cultural items in the possession of the Peabody Museum of Archaeology and Ethnology, Harvard University, Cambridge, MA, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

This notice corrects the total number of unassociated funerary objects from four to five described in a Notice of Intent to Repatriate Cultural Items (72 FR 48677-48678, August 24, 2007). Since publication, an additional funerary object was found for one of the two sites in the notice.

In the Federal Register (72 FR 48677-48678, August 24, 2007), paragraph three is corrected by substituting the following paragraph:

The five cultural items are three brass sheet fragments, one lot of elk teeth pendants and white discoidal beads, and one vial of shell and glass bead fragments.

Paragraph four is corrected by substituting the following paragraph:

In 1903, four cultural items were recovered from the Silverheels site in Brant, Erie County, NY, during a Peabody Museum of Archaeology and Ethnology expedition led by M. R. Harrington and A. C. Parker. Museum documentation indicates that the cultural items were interred with human remains. The human remains that were originally associated with these items were published in the Federal Register in a Notice of Inventory Completion (66 FR 51060-51062, October 5, 2001), and have since been transferred to the culturally affiliated groups. Therefore, the cultural items are now unassociated funerary objects. The four unassociated funerary objects are three brass sheet fragments and one lot of elk teeth pendants and white discoidal beads.

Paragraph nine is corrected by substituting the following paragraph:

Officials of the Peabody Museum of Archaeology and Ethnology have determined, pursuant to 25 U.S.C. 3001(3)(B), that the five cultural items described above are reasonably believed to have been placed with or near individual human remains at the time of death or later as part of the death rite or ceremony and are believed, by a preponderance of the evidence, to have been removed from a specific burial site of Native American individuals. Officials of the Peabody Museum of Archaeology and Ethnology also have determined, pursuant to 24 U.S.C. 3001(2), that there is a relationship of shared group identity that can be reasonably traced between the unassociated funerary objects and the Cayuga Nation of New York; Oneida Nation of New York; Oneida Tribe of Indians of Wisconsin; Onondaga Nation of New York; Seneca Nation of New York; Seneca-Cayuga Tribe of Oklahoma; Saint Regis Mohawk Tribe, New York; Tonawanda Band of Seneca Indians of New York; and Tuscarora Nation of New York (hereinafter referred to as “The Tribes”).

Representatives of any other Indian tribe that believes itself to be culturally affiliated with the unassociated funerary objects should contact Patricia Capone, Repatriation Coordinator, Peabody Museum of Archaeology and Ethnology, Harvard University, 11 Divinity Avenue, Cambridge, MA 02138, telephone (617) 496-3702, before April 14, 2011. Repatriation of the unassociated funerary objects to The Tribes may proceed after that date if no additional claimants come forward.

The Peabody Museum of Archaeology and Ethnology is responsible for notifying The Tribes that this notice has been published.

Dated: March 9, 2011.
Sherry Hutt,
Manager, National NAGPRA Program.

[FR Doc. 2011-5867 Filed 3-14-11; 8:45 am]

BILLING CODE 4312-50-P